DEPARTMENT OF LABOR

Employment and Training Administration

[TA-W-65,315]

Davis International, West Point, MS; Notice of Termination of Investigation

Pursuant to Section 221 of the Trade Act of 1974, as amended, an investigation was initiated on February 19, 2009 in response to a worker petition filed by workers of Davis International, West Point, Mississippi.

The petitioner has requested that the petition be withdrawn. Consequently, the investigation has been terminated.

Signed at Washington, DC, this 17th day of April 2009.
Elliott S. Kushner,
Certifying Officer, Division of Trade Adjustment Assistance.

[FR Doc. E9-10905 Filed 5-8-09; 8:45 am]

BILLING CODE 4510-FN-P